ENVIRONMENTAL PROTECTION AGENCY

[FRL-7375-5]

EPA Science Advisory Board, Notification of Public Advisory Committee Meetings; Human Health Research Strategy Review Panel

Pursuant to the Federal Advisory Committee Act, Public Law 92-463, notice is hereby given of two meetings of the Human Health Research Strategy Review Panel (HHRS Review Panel) of the U.S. Environmental Protection Agency's (EPA) Science Advisory Board (SAB). The Panel will meet on the dates and times noted below. All times noted are Eastern Time. All meetings are open to the public, however, seating is limited and available on a first come basis. For teleconference meetings, available lines may also be limited. Important Notice: The document that is the subject of this SAB review, Human Health Research Strategy, May 2002 draft, is available on the SAB Web site at http://www.epa.gov/sab/pdf/hhrs.pdf. Any questions on the strategy should be directed to the program contact noted below.

Background—The background for this review and the charge to the panel were published in the Federal Register (67 FR 41718-41721) on June 19, 2002. The notice also included a call for nominations for members of the panel in certain technical expertise areas needed to address the charge and described the process to be used in forming the panel.

1. Human Health Research Strategy Review Panel—September 30, 2002 Teleconference

The HHRS Review Panel will meet on September 30, 2002 via teleconference from 2:30 p.m. to 3:30 p.m. Eastern Time. This teleconference meeting will be hosted out of Conference Room 6013, USEPA, Ariel Rios Building North, 1200 Pennsylvania Avenue, NW., Washington, DC 20004. The meeting is open to the public, but, due to limited space, seating will be on a first-come basis. The public may also attend via telephone, however, lines may be limited. For further information concerning the meeting or how to obtain the phone number, please contact the individuals listed at the end of this FR notice.

Purpose of the Meeting—The purpose of this public teleconference meeting is to: (a) Discuss the charge and the adequacy of the review materials provided to the HHRS Review Panel; (b) to clarify any questions and issues relating to the charge and the review materials; (c) to discuss specific charge assignments to the HHRS Review Panelists; and (d) to clarify specific points of interest raised by the Panelists in preparation for the face-to-face meeting to be held on October 7-9, 2002.

See below for availability of review materials, the charge to the review panel, and contact information.

2. Human Health Research Strategy Review Panel—October 7-9, 2002 Meeting

The HHRS Review Panel of the Science Advisory Board (SAB) will conduct a public meeting on October 7-9, 2002. The meeting will begin on October 7 at 9 a.m. and adjourn no later than 5:30 p.m. that day. On October 8, 2002, the meeting may begin at 8 a.m. and adjourn no later than 5 p.m. On October 9, 2002, the meeting will begin at 8 a.m. and adjourn no later than 1:30 p.m. The meeting will take place at the U.S. Environmental Protection Agency's Environmental Research Center, Research Commons, 86 T.W. Alexander Drive, Research Triangle Park, NC 27711. For further information concerning the meeting, please contact the individuals listed at the end of this FR notice.

The need for subsequent meetings of the Review Panel will be discussed at this meeting and schedules of any future meetings to complete review of this topic will be determined. Information concerning any future public meetings will appear in Federal Register notices as appropriate.

Purpose of the Meeting—The purpose of this meeting is to conduct a review of an Agency draft document entitled, Human Health Research Strategy, May 2002 Draft Report, prepared by the U.S. Environmental Protection Agency, Office of Research and Development. In particular, the Review Panel will: (a) Engage in dialogue with appropriate officials from the Agency who are responsible for the Strategy's preparation; (b) begin to prepare responses to the charge questions; (c) receive public comments as appropriate; and (d) plan and schedule subsequent meetings (if needed) to complete this review.

See below for availability of review materials, the charge to the review panel, and contact information for both meetings.

FOR FURTHER INFORMATION CONTACT: To enquire about public participation in the meetings identified above please contact Mr. Thomas O. Miller, Designated Federal Officer, HHRS Review Panel, USEPA Science Advisory Board (1400A), Suite 6450DD, 1200 Pennsylvania Avenue, NW., Washington, DC 20460; telephone/voice mail at (202) 564-4558; fax at (202) 501-0323; or via e-mail at miller.tom@epa.gov. Requests for oral comments must be in writing (e-mail, fax or mail) and received by Mr. Miller no later than noon Eastern Time on the following dates: for the September 30 teleconference call, requests must be received by September 25; and for the October 7-9 face to face meeting, requests must be received by October 2, 2002.

The SAB will have a brief period (no more than 10 minutes) available during the Teleconference meeting for applicable public comment. For the Teleconference, the oral public comment period will be divided among the speakers who register. At the October 7-9 face to face meeting, the oral public comment will be limited to sixty minutes divided among the speakers who register. Registration is on a first come basis. Speakers who have been granted time on the agenda may not yield their time to other speakers. Those wishing to speak but who are unable to register in time may provide their comments in writing.

Members of the public desiring additional information about the meeting locations or the call-in number for the teleconference, must contact Ms. Zisa Lubarov-Walton, Management Assistant, EPA Science Advisory Board (1400A), Suite 6450FF, U.S. EPA, 1200 Pennsylvania Avenue, NW., Washington, DC 20460; telephone/voice mail at (202) 564-4537; fax at (202) 501-0582; or via e-mail at lubarov-walton.zisa@epa.gov.

A copy of the draft agenda for each meeting will be posted on the SAB Web site (http://www.epa.gov/sab) (under the AGENDAS subheading) approximately 10 days before that meeting.

Availability of Review Material—There is one primary document that is the subject of the review. The review document is available electronically at the following site http://www.epa.gov/sab/pdf/hhrs.pdf. For questions and information pertaining to the review document, please contact Dr. Hugh Tilson, (Mail Code B30502), U.S. Environmental Protection Agency, National Health and Environmental Effects Research Laboratory, Research Triangle Park, NC 27711; tel. (919) 541-4607, Fax (919) 685-3252, e-mail: tilson.hugh@epa.gov.

Providing Oral or Written Comments at SAB Meetings

It is the policy of the EPA Science Advisory Board to accept written public comments of any length, and to accommodate oral public comments whenever possible. The EPA Science Advisory Board expects that public statements presented at its meetings will not be repetitive of previously submitted oral or written statements. Oral Comments: In general, each individual or group requesting an oral presentation at a face-to-face meeting will be limited to a total time of ten minutes (unless otherwise indicated above). For teleconference meetings, opportunities for oral comment will usually be limited to no more than three minutes per speaker and no more than fifteen minutes total (unless otherwise indicated above). Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the review panel for their consideration. Comments should be supplied to the appropriate DFO at the address/contact information noted above in the following formats: One hard copy with original signature, and one electronic copy via e-mail (acceptable file format: Adobe Acrobat, WordPerfect, Word, or Rich Text files (in IBM-PC/Windows 95/98 format). Those providing written comments and who attend the meeting are also asked to bring 35 copies of their comments for public distribution.

Meeting Access—Individuals requiring special accommodation at this meeting, including wheelchair access to the conference room, should contact Mr. Miller at least five business days prior to the meeting so that appropriate arrangements can be made.

General Information—Additional information concerning the EPA Science Advisory Board, its structure, function, and composition, may be found on the SAB Web site (http://www.epa.gov/sab) and in the Science Advisory Board FY2001 Annual Staff Report which is available from the SAB Publications Staff at (202) 564-4533 or via fax at (202) 501-0256.

Dated: September 5, 2002.
A. Robert Flaak,
Acting Staff Director, EPA Science Advisory Board.

[FR Doc. 02-23262 Filed 9-11-02; 8:45 am]

BILLING CODE 6560-50-P